DEPARTMENT OF DEFENSE

Office of the Secretary

[Docket ID DOD-2019-OS-0034]

Submission for OMB Review; Comment Request

AGENCY: Office of the Under Secretary of Defense for Personnel and Readiness, DoD.

ACTION: 30-Day information collection notice.

SUMMARY: The Department of Defense has submitted to OMB for clearance the following proposal for collection of information under the provisions of the Paperwork Reduction Act.

DATES: Consideration will be given to all comments received by September 30, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Department of Defense Education Activity (DoDEA) School Registration and Sure Start Registration; DoDEA Form 600; OMB Control Number 0704-0495.

Type of Request: Revision.

Number of Respondents: 72,950.

Responses per Respondent: 1.

Annual Responses: 72,950.

Average Burden per Response: 22.5 minutes.

Annual Burden Hours: 36,237.5.

Needs and Uses: This information collection requirement is necessary to obtain information on Department of Defense military and civilian sponsors and their dependents. The information gathered on the sponsors is used to determine their dependents' enrollment eligibility to attend the Department of Defense Education Activity (DoDEA) schools. This includes determination of enrollment categories, whether tuition-free or tuition-paying, space-required or space-available. Information gathered for students is used for age verification, class and transportation schedules, record attendance, absence and withdrawal, record and monitor student progress, grades, course and grade credits, educational services and placement, activities, student awards, special interest and accomplishments.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: August 26, 2019.
Morgan E. Park,
Alternate OSD Federal Register Liaison Officer, Department of Defense.

[FR Doc. 2019-18767 Filed 8-29-19; 8:45 am]

BILLING CODE 5001-06-P